DEPARTMENT OF DEFENSE

Department of the Army

Availability for Non-Exclusive, Exclusive, or Partially Exclusive Licensing of U.S. Provisional Patent Application Concerning Gated Auscultatory Device

AGENCY: Department of the Army, DoD.

ACTION: Notice.

SUMMARY: In accordance with 37 CFR 404.6 and 404.7, announcement is made of the availability for licensing of the invention described in U.S. Provisional Patent Application No. 60/495,126 entitled “Gated Auscultatory Device,” filed August 15, 2003. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This new device is an electronic circuit that interfaces with electronic stethoscopes or other types of heart sound recording equipment and allows the health care provider (1) to listen to heart sounds during all periods of the cardiac cycle as he/she would with a regular stethoscope (normal use) and (2) to selectively listen to specific parts of the cardiac cycle. This new device allows health care providers or trainees to listen to either systole or diastole or shorter intervals within these periods to facilitate identification of normal or abnormal heart sounds.

Brenda S. Bowen,
Alternate Army Federal Register Liaison Officer.

[FR Doc. 04-5972 Filed 3-16-04; 8:45 am]

BILLING CODE 3710-08-M